DEPARTMENT OF EDUCATION

[Docket No.: ED-2023-SCC-0027]

Agency Information Collection Activities; Comment Request; Grant Application Form for Project Objectives and Performance Measures Information; Correction

AGENCY: Office of Finance and Operation (OFO), Department of Education (ED).

ACTION: Correction notice.

SUMMARY: On February 13, 2023, the U.S. Department of Education published a 60-day comment period notice in the Federal Register with FR DOC# 2023-02979 (Page 9268, Column 1, Page 9269, Column 1, Column 2) seeking public comment for an information collection entitled, “Grant Application Form for Project Objectives and Performance Measures”. The docket number is incorrect. The correct docket number is ED-2023-SCC-0027.

The PRA Coordinator, Strategic Collections and Clearance, Office of the Chief Data Officer, Office of Planning, Evaluation and Policy Development, hereby issues a correction notice as required by the Paperwork Reduction Act of 1995.

Dated: February 13, 2023.
Stephanie Valentine,
PRA Coordinator, Strategic Collections and Clearance, Office of the Chief Data Officer, Office of Planning, Evaluation and Policy Development.

[FR Doc. 2023-03284 Filed 2-15-23; 8:45 am]

BILLING CODE 4000-01-P